DEPARTMENT OF THE INTERIOR

National Park Service

[N6630; NPS-WASO-NAGPRA-NPS0041363; PPWOCRADN0-PCU00RP14.R50000]

Notice of Inventory Completion: U.S. Department of Agriculture, Forest Service, Tonto National Forest, Phoenix, AZ

AGENCY: National Park Service, Interior.

ACTION: Notice.

SUMMARY: In accordance with the Native American Graves Protection and Repatriation Act (NAGPRA), the U.S. Department of Agriculture, Forest Service, Tonto National Forest (Tonto National Forest) has completed an inventory of human remains and associated funerary objects and determined that there is a cultural affiliation between the human remains and associated funerary objects and Indian Tribes or Native Hawaiian organizations in this notice.

DATES: Repatriation of the human remains and associated funerary objects in this notice may occur on or after January 15, 2026.

ADDRESSES: Send written requests for repatriation of the human remains and associated funerary objects in this notice to Neil Bosworth, Tonto National Forest, 2324 E McDowell Road, Phoenix, AZ 85006, email neil.bosworth@usda.gov.

SUPPLEMENTARY INFORMATION: This notice is published as part of the National Park Service's administrative responsibilities under NAGPRA. The determinations in this notice are the sole responsibility of the Tonto National Forest, and additional information on the determinations in this notice, including the results of consultation, can be found in the inventory or related records. The National Park Service is not responsible for the determinations in this notice.

Abstract of Information Available

Based on the information available, human remains representing, at least, one individual have been reasonably identified. No associated funerary objects are present. On June 29, 1954, Frances S. and Alan P. Olson recorded AZ O:11:19(ASM) in Gila County, Arizona. The site was described as a surface scatter of ceramic sherds and lithic materials associated with the Central Arizona Tradition. No ancestral remains were reported. A surface collection sample was conducted by the Olsons and brought to the Arizona State Museum on an unknown date. In 2010, isolated remains consistent with human remains were located within site survey collection boxes housed at ASM. No known individuals have been identified.

Based on the information available, human remains representing, at least, one individual have been reasonably identified. The two associated funerary objects are a ceramic jar and a ceramic bowl. In 1929, AZ O:15:1(ASM)/AR-03-12-06-54 was encountered by the Gila Pueblo Archaeological Foundation (Gila Pueblo) at the junction of Rye and Deer Creeks in Gila County, Arizona. The site was described by Gila Pueblo as a four-to-five-story pueblo featuring more than 300 rooms and ascribed to Hohokam/Salado archaeological traditions. Between 1929 and 1930, numerous burials were excavated and retained by Gila Pueblo. On March 16, 1931, a donation of collected cultural items from this site was made to ASM by Gila Pueblo. On December 16, 1950, Gila Pueblo collections not previously dispositioned by the organization were donated to ASM by Mr. and Mrs. Harold S. Gladwin. AZ O:15:1(ASM)/AR-03-12-06-54 was previously reported in a 1996 Notice of Inventory Completion and 1998 Amendment under the name “Rye Creek Ruin.” No known individual has been identified.

Based on the information available, human remains representing, at least, 21 individuals have been reasonably identified. The 51 associated funerary objects are a lithic biface, a ceramic bowl, bulk faunal bone, bulk flaked stone, bulk ground stone, bulk shell, lithic projectile points, botanical samples, ceramic sherds, and a ceramic vessel. From July 9 to October 5, 1971, AZ O:15:31(ASM)/AR-03-12-06-582 was excavated by ASM as part of a Highway Salvage Program. The site was described as a large Hohokam Colonial Period habitation site located on a small ridge north of Hardt Creek and east of Jake's Corner in Gila County, Arizona. On April 17, 1972, collections from AZ O:15:31(ASM)/AR-03-12-06-582 were received by ASM. This site was previously included in a 1996 Notice of Inventory Completion under the name “Ushklish Ruin.” No known individuals have been identified.

Based on the information available, human remains representing, at least, one individual have been reasonably identified. No associated funerary objects are present. In 1988 and 1989, AZ O:15:52(ASM) was excavated in Gila County, Arizona as part of the Rye Creek Testing and Mitigation Project by Desert Archaeology. The site was described as a small Hohokam pit house village located southwest of Rye Creek on the northern terrace of Deer Creek. On April 1, 1990, ancestral remains were loaned to the ASM Human Identification Laboratory for the purpose of documentation. On June 10, 1992, all other project collections were accessioned by ASM via repository agreement. On November 5, 1999, ancestral remains and funerary objects, were repatriated to the Salt River Pima-Maricopa Indian Community (DP-1999-8). In 2014, additional remains consistent with ancestral remains were located by ASM staff in bulk faunal collections associated with this project. No known individuals have been identified.

Based on the information available, human remains representing, at least, four individuals have been reasonably identified. The 15 associated funerary objects are ceramic bowls, ceramic jars, ceramic pitchers, organic material, and ceramic sherds. On an unknown date prior to September 1929, AZ O:15:8(ASM)/AR-03-12-04-106 was recorded and excavated by John Hughes and George Dennis for Gila Pueblo Archaeological Foundation (Gila Pueblo) in Gila County, Arizona. The site, located southeast of Payson on a small hill overlooking Round Valley to the northeast, was described as a two-to-three-story Sinagua pueblo of at least 150 contiguous and isolated rooms. On December 16, 1950, Gila Pueblo collections not previously dispositioned by the institution were donated to ASM by Mr. and Mrs. Harold S. Gladwin. Collections from this site were previously published in a 1996 Notice of Inventory Completion and a 1998 Amendment under the name “Round Valley Ruin.” No known individuals have been identified.

Based on the information available, human remains representing, at least, one individual have been reasonably identified. The four associated funerary objects are ceramic sherds and a drilled, ceramic sherd. On an unknown date prior to January 8, 2001, an individual was inadvertently encountered in a road cut of Forest Service Road 202 between Q Ranch and Bottle Springs from a location designated as AZ P:—:Q Ranch Road. On January 8, 2001, ancestral remains and associated cultural items were received by ASM from the Southwest Bird Laboratory. No known individuals have been identified.

Based on the information available, human remains representing, at least, one individual have been reasonably identified. The two associated funerary objects are a ceramic bowl fragment and a lithic flake fragment. From October 11 to October 24, 1981, AZ P:9:6(ASM)/AR-03-12-04-445 was excavated by the Cultural Resource Management Division of ASM at the request of the Arizona Department of Transportation. The site was located south of the Mogollon Rim and east of Christopher Creek on a low terrace east of an unnamed tributary of Hunt Creek in Gila County, Arizona. AZ P:9:6(ASM)/AR-03-12-04-445 was described as a low-density lithic and sherd scatter belonging to the Sinagua archaeological tradition. On October 22, 1981, collections from this site were accessioned by ASM. Collections from this site were previously published in a 1996 Notice of Inventory Completion and a 1998 Amendment. No known individuals have been identified.

Based on the information available, human remains representing, at least, one individual have been reasonably identified. The one associated funerary object is a lot of ceramic sherds. On May 29, 1972, a site designated as AZ U:12:21(ASM) was encountered in Gila County, Arizona, during the Pinto Valley Archaeological Project. AZ U:12:21(ASM) was described as a small Salado compound with adjoining rooms and a circular, kiva-like structure. A disturbed funerary feature was encountered during the project survey, and fragmentary ancestral remains and associated items were recovered. From November 1972 to May 1988, ASM received objects and documentation from the project under an accession agreement. In 2009, ancestral remains and associated funerary belongings were identified in site survey boxes housed at ASM. No known individual has been identified.

Based on the information available, human remains representing, at least, 34 individuals have been reasonably identified. The 32 associated funerary objects are bone awls, ceramic bowls, bulk faunal bone, bulk flaked stone, bulk shell, a ceramic figurine fragment, miscellaneous debitage, stone palettes, stone projectile points, ceramic sherds, and reconstructable ceramic vessels. AZ U:6:23(ASM)/AR-03-12-03-66, located in Maricopa County, Arizona, was excavated between March and June 1990 by Archaeological Consulting Services, Ltd., as part of the Water Users Project. The site was defined as a Sedentary period Hohokam settlement consisting of at least nine mounds with associated lithic and ceramic scatters, one cemetery area, and five discrete funerary features. On May 20, 1990, collections from the project were received by ASM via repository agreement. In 1997 and 2015, additional remains consistent with human remains were identified in bulk faunal collections at ASM. AZ U:6:23(ASM)/AR-03-12-03-66 was previously reported in a 1996 Federal Register of Inventory Completion under the name “Water Users' Site.” No known individuals have been identified.

Based on the information available, human remains representing, at least, five individuals have been reasonably identified. No associated funerary objects are present. AZ U:6:40(ASM)/AR-03-12-03-51, located in Maricopa County, Arizona, was recorded as a Hohokam site containing a possible ball court, at least one pit house, 32 trash mounds, and sherd and lithic scatters. On June 1, 1990, Archaeological Consulting Services, Ltd. collected five surface samples from mounds at this site as part of the Water Users Project. No excavations were conducted, and no funerary features or belongings were reported. On November 8, 1991, collections from the project were received by ASM under a repository agreement. In November 2014, bone fragments consistent with human remains were located in the project's bulk faunal collections housed at ASM. No known individuals have been identified.

Based on the information available, human remains representing, at least, one individual has been reasonably identified. No associated funerary objects are present. On an unknown date in the 1950s, isolated ancestral remains were encountered on the ground surface of a sandy wash on the dam side of Roosevelt Lake (AZ U:8:—Roosevelt Lake), in either Gila or Maricopa County, Arizona. Based on the geographic area of recovery, it is believed the individual is associated with Hohokam or Salado archaeological traditions. On September 20, 2004, the ancestral remains were received as an anonymous donation by ASM. No additional information is available from records housed at ASM.

Based on the information available, human remains representing, at least, one individual have been reasonably identified. The seven associated funerary objects are ceramic bowls and ceramic jars. On an unknown date prior to March 20, 1929, AZ U:8:480(ASM)/AR-03-12-06-0058 was encountered in Gila County, Arizona by John Hughes and George Dennis for the Gila Pueblo Archaeology Foundation (Gila Pueblo). Nineteen Salado funerary features were encountered, and one individual and their funerary items removed. On December 16, 1950, Gila Pueblo collections not previously dispositioned by the institution were donated to ASM by Mr. and Mrs. Harold S. Gladwin. AZ U:8:480(ASM)/AR-03-12-06-0058 was previously reported in a 1996 Federal Register Notice of Inventory Completion under the name “Keystone Ruin.” No known individuals have been identified.

Based on the information available, human remains representing, at least, one individual have been reasonably identified. The five associated funerary objects are a ceramic bowl, shell bracelet fragments, and a stone palette fragment. On an unknown date prior to February 2, 1929, AZ U:8:56(ASM) was encountered in Gila County, Arizona by George Dennis for the Gila Pueblo Foundation (Gila Pueblo). The site was then recorded on February 2, 1929, by Harold S. Gladwin. From December 1930 to February 1931, John Hughes, George Dennis, and Emil Haury carried out excavations at the site for Gila Pueblo. AZ U:8:56(ASM) featured 14 semi-subterranean houses and one room of stone masonry ascribed to Hohokam or Salado archaeological traditions. Additionally, the site featured two refuse mounds and two cemetery areas. A total of 32 mortuary features were identified, and one individual and their associated funerary belongings were removed as part of Gila Pueblo's excavations. It is unclear from archival records if additional ancestral remains were recovered during this work. On December 16, 1950, Gila Pueblo collections not previously dispositioned by the institution were donated to ASM by Mr. and Mrs. Harold S. Gladwin. AZ U:8:56(ASM) was previously reported in a 1996 Federal Register Notice of Inventory Completion under the name “Grapevine Springs.” No known individuals have been identified.

Based on the information available, human remains representing, at least, one individual have been reasonably identified. No associated funerary objects are present. From October 29 to 30, 1984, AZ V:1:166(ASM) in Gila County, Arizona was surveyed and recorded as part of the Sierra Ancha Project. The site, located south of Banning Wash and east of Cherry Creek on a small prominence, was described as a Mogollon or Salado pueblo of at least 23 contiguous rooms of cobble masonry walls. Looting disturbances were reported in most rooms, and ancestral remains were located on the surface of the north slope of the site. On October 12, 1998, ancestral remains recovered during the project were received by ASM. No known individual has been identified.

Based on the information available, human remains representing, at least, two individuals have been reasonably identified. No associated funerary objects are present. In January 1982, AZ V:1:167(ASM) was surveyed and recorded as part of the Sierra Ancha Project in Gila County, Arizona. AZ V:1:167(ASM) was described as a Mogollon or Salado cliff dwelling located in Dripping Springs Canyon in the Sierra Ancha Mountains. The site featured 17 rooms in two groups, including multi-story rooms. Numerous looting disturbances were noted at the site. On December 10, 1998, collections from this project were received by ASM under a repository agreement. No known individuals have been identified.

Based on the information available, human remains representing, at least, two individuals have been reasonably identified. No associated funerary objects are present. On July 17, 1978, AZ V:1:33(ASM)/AR-03-12-05-383 was recorded as part of the Arizona Public Service Cholla-Saguaro Transmission Line Mitigation Project in Gila County, Arizona. AZ V:1:33(ASM)/AR-03-12-05-383 was described as a Mogollon masonry pueblo habitation site located on a bluff above Rock House Creek. The site contained two-to-three room-blocks featuring 50-60 rooms surrounding a plaza area. The plaza and several rooms were noted to be heavily impacted by looting activities, erosion, and asbestos mining. On April 7, 1983, collections from this project were accessioned by ASM and later received on November 15, 1985. Ancestral remains were not reported in the associated project report; however, ancestral remains were recovered from disturbed areas of the site. These individuals were previously reported in a 1996 NIC and a 1998 amendment under the site name “Rock House Pueblo.” No known individuals have been identified.

Based on the information available, human remains representing, at least, one individual have been reasonably identified. No associated funerary objects are present. On July 24, 1978, AZ V:1:61(ASM) was recorded as part of the Cholla-Saguaro Transmission Line Mitigation Project in Gila County, Arizona. The site was described as a Mogollon habitation site of cobble and slab construction with an associated ceramic and lithic scatter located south of Campbell Creek and northeast of Forest Service Road 202. AZ V:1:61(ASM) was reported to be heavily disturbed by looting and cattle grazing activities. On April 7, 1983, project collections were accessioned by ASM. In May 2015, isolated remains consistent with human remains were located within the project's bulk faunal collections housed at ASM. No known individuals have been identified.

Based on the information available, human remains representing, at least, one individual has been reasonably identified. No associated funerary objects are present. On August 5, 1978, AZ V:1:70(ASM) was recorded as part of the Cholla-Saguaro Transmission Line Mitigation Project in Gila County, Arizona. The site was described as a Mogollon habitation site featuring two structures of cobble masonry and an associated lithic and sherd scatter situated on an erosional slope above Campbell Bluff, west of the Fort Apache Indian Reservation and south of Campbell Creek. On April 7, 1983, collections from the project were received by ASM. In May 2015, isolated remains consistent with human remains were located in the project's bulk faunal collections housed at ASM. No known individuals have been identified.

Based on the information available, human remains representing, at least, two individuals have been reasonably identified. The 39 associated funerary objects are ceramic bowls, ceramic pitchers, ceramic sherds, bulk lithic debitage, a lithic tool, bulk ground stone, soil samples, pollen samples, and mineral samples. On July 16, 1975, AZ V:5:14(ASM) was recorded by ASM as part of the Cholla-Saguaro Transmission Line Mitigation Project in Gila County, Arizona. From May 16 to August 12, 1977, excavations were conducted at the site. AZ V:5:14(ASM) was described as a part-time Salado habitation site featuring five non-contiguous cobble structures. One funerary feature was recovered. On April 7, 1983, collections associated with the project were accessioned by ASM. In 2015, additional isolated remains consistent with human remains were located within the project's bulk faunal collections housed at ASM. The individual reported during the 1977 fieldwork was included in a 1996 NIC and a 1998 amendment under the site number “AZ V:05:0014(ASM)”. No known individuals have been identified.

Based on the information available, human remains representing, at least, six individuals have been reasonably identified. No associated funerary objects are present. From April to August 1977, AZ V:5:49(ASM) was excavated as part of the Cholla-Saguaro Transmission Line Mitigation Project in Gila County, Arizona. The site was described as a north-facing Mogollon rock shelter located on a saddle between two small drainages. Sherd and lithic scatters were recorded within the rock shelter. Collections from the project were accessioned by ASM on April 7, 1983. On May 3, 2000, and May 13, 2015, remains consistent with human remains were located within the project's faunal collections housed at ASM. No known individuals have been identified.

Based on the information available, human remains representing, at least, one individual have been reasonably identified. No associated funerary objects are present. From June 1, 1981, to July 1, 2004, the Cliff Dwellings of the Sierra Ancha Project was periodically conducted by ASM to relocate cliff dwellings originally recorded by the Gila Pueblo Archaeological Foundation. AZ V:5:61(ASM), a north-facing Mogollon cliff dwelling and associated ceramic scatter, was re-located on the west bank of Coon Creek in Gila County, Arizona. Ancestral remains associated with looting activity were recovered and received by ASM on October 12, 1998, for repatriation. No known individuals have been identified.

Based on the information available, human remains representing, at least, two individuals have been reasonably identified. The 44 associated funerary objects are lithic debitage, ground stone, ceramic sherds, a rock sample, and botanical samples. From April to October 1977, AZ V:9:105(ASM) was excavated as part of the Cholla-Saguaro Transmission Line Mitigation Project. The site was described as a Salado habitation site situated on a northeast-southwest trending ridge west of Devore Wash in Gila County, Arizona. One disturbed funerary feature was excavated and recovered during data recovery. On April 7, 1983, project collections were accessioned by ASM. No known individuals have been identified.

Based on the information available, human remains representing, at least, two individuals have been reasonably identified. The one associated funerary object is a pottery sherd. On June 21, 1977, AZ V:9:108(ASM) was recorded as part of the Cholla-Saguaro Transmission Line Mitigation Project. The site was described as a Salado habitation featuring a 10-room pueblo, artifact scatter, and probable agave pit located in the Upper Devore Wash on a steep granite and limestone ridge in Gila County, Arizona. AZ V:9:108(ASM) was noted to be heavily impacted by looting, erosion, and grazing activities at the time of recording. From October 3 to November 16, 1977, data recovery was conducted at AZ V:9:108(ASM). On April 7, 1983, project collections were accessioned by ASM under a repository agreement. In April 1997, ancestral remains were located within collections housed at ASM. No known individuals have been identified.

Based on the information available, human remains representing, at least, three individuals have been reasonably identified. The six associated funerary objects are ground stone, ceramic sherds, and faunal bone. On July 9, 1971, AZ V:9:13(ASM) was recorded by ASM as part of an archaeological survey of Tonto National Forest lands slated for land exchange with Cities Service Company of Miami, Arizona. The site was described as a Hohokam campsite including a low refuse mound and associated sherd scatter located on a flat above Miller Springs and northwest of Miami in Gila County, Arizona. From December 20 to December 31, 1971, the site was fully mitigated prior to mining development. Excavation revealed large roasting pits, multiple rock concentrations of various sizes, and three funerary features. On April 1, 1972, project collections were accessioned by ASM. No known individuals have been identified.

Based on the information available, human remains representing, at least, two individuals have been reasonably identified. The four associated funerary objects are a lithic flake, a lithic biface fragment, faunal bone hairpin, ceramic bowl. On July 10, 1971, AZ V:9:14(ASM) was recorded as part of the Pinto Valley Archaeological Project. The site was described as a Salado pueblo compound of cobble construction featuring three rooms and a large plaza located on a ridge at the junction of Gold Gulch and an unnamed tributary in Gila County, Arizona. From March 25 to April 8, 1972, excavation took place at AZ V:9:14(ASM) and one funerary feature was recovered. On April 4, 1972, project collections were accessioned by ASM. In February 1974, a second individual was identified during the inventory of ancestral remains at ASM. No known individuals have been identified.

Based on the information available, human remains representing, at least, three individuals have been reasonably identified. The 17 associated funerary objects are ceramic sherds, lithic chipped stone, ground stone, a shaft straightener, a polishing stone, a ceramic jar, ceramic bowls, a lithic hand stone, lithic cobbles, and lithic manos. On July 17, 1971, AZ V:9:21(ASM) was recorded as part of the Pinto Valley Archaeological Project in Gila County, Arizona. The site was described as a Salado habitation site featuring noncontiguous pueblo rooms constructed of sandstone slab and water-worn cobble masonry. Between July and September 1973, excavations were conducted at AZ V:9:21(ASM) and yielded a long L-shaped rock wall alignment, field check dams, an artifact scatter, and a midden. On April 4, 1972, collections from the project were accessioned by the Arizona State Museum. No known individuals have been identified.

Based on the information available, human remains representing, at least, one individual has been reasonably identified. No associated funerary objects are present. From October 29, 1996, to March 24, 1999, AZ V:9:367(ASM)/AR-03-12-02-78 was excavated by ACS as part of the SR 88 Wheatfields Testing and Data Recovery Project. AZ V:9:367(ASM)/AR-03-12-02-78 was located on a broad ridge northwest of Pinal Creek and immediately north of Gerald Wash in Gila County, Arizona. The site was described as a Late Formative period habitation site. Three funerary features were reported during fieldwork and repatriated by November 2002. In November 2003, collections from this project were accessioned by ASM under a repository agreement. In July 2015, additional remains consistent with human remains were located within the project's bulk faunal collections housed at ASM. No known individuals have been identified.

Based on the information available, human remains representing, at least, one individual have been reasonably identified. The one associated funerary object is a ceramic bowl. On March 14, 1974, AZ V:9:59(ASM)/AR-03-12-02-206 was identified and recorded by ASM. The site was described as a Salado habitation on a terrace on the west side of Pinal Creek in Gila County, Arizona. From May 7 to August 9, 1974, AZ V:9:59(ASM)/AR-03-12-02-206 was excavated by ASM under the statewide archaeological highway salvage program as part of the Miami Wash Project. On August 9, 1974, collections from the project were accessioned by ASM. No known individuals have been identified.

Based on the information available, human remains representing, at least, six individuals have been reasonably identified. The eight associated funerary objects are faunal bone, chipped lithic stone, shell beads, a ceramic bowl, a vegetation sample, a flotation sample, a rock or mineral fragment. On March 14, 1974, AZ V:9:60(ASM)/AR-03-12-02-207 was recorded by ASM. The site was described as a Salado habitation featuring a two-to-three room cobble pueblo on the west bank of Miami Wash in Gila County, Arizona. From May 30 to June 25, 1974, AZ V:9:60(ASM) was excavated as part of the Miami Wash Project. Two funerary features were reported. On August 9, 1974, collections from the project were received and accessioned by ASM. Between 1974 and 1978, additional human remains were identified within bulk faunal collections during an analysis of faunal remains from this project. On November 6, 2015, further remains consistent with human remains were located within bulk faunal collections housed at ASM. The site was previously reported in a 1996 NIC and a 1998 amendment under the site name “Multigrade Site”. No known individuals have been identified.

Based on the information available, human remains representing, at least, four individuals have been reasonably identified. The five associated funerary objects are shell bracelets. In 1923, Fred Hawley and Norman MacDonald, located AZ V:9:68(ASM) on a north-south oriented ridge northeast of Miami and northwest of Burch, in Gila County, Arizona. The site was described as a Salado habitation featuring a large pueblo with approximately a hundred ground floor rooms and evidence of at least ten rooms of probable two-story construction. Between 1923-1930, the site was periodically excavated by Fred Hawley and family, and Dr. and Mrs. Cron. Funerary features were reported by Fred Hawley and Dr. Cron; however, adequate notes on excavations or specific proveniences were not recorded. On July 4, 1927, partial remains and associated funerary objects were excavated and recovered by Fred Hawley. On an unknown date this individual and their associated funerary belongings were given to Florence Hawley Ellis, daughter of Mr. Hawley. On an unknown date, from an unknown source, ancestral remains were received by the Arizona State Museum prior to August 1953. In 1974, ASM carried out archaeological testing at AZ V:9:68(ASM) as part of the Miami Wash project. No funerary features were reported during this project. On August 9, 1974, collections from the Miami Wash Project were accessioned by ASM. On June 1, 1987, collections excavated by Fred Hawley were donated by Florence Hawley Ellis and accessioned by ASM. In April 2000, additional remains consistent with human remains were identified within faunal collections housed at ASM. No known individuals have been identified.

Cultural Affiliation

Based on the information available and the results of consultation, cultural affiliation is reasonably identified by the geographical location or acquisition history of the human remains and associated funerary objects described in this notice.

Determinations

The Tonto National Forest has determined that:

• The human remains described in this notice represent the physical remains of 113 individuals of Native American ancestry.

• The 244 objects described in this notice are reasonably believed to have been placed intentionally with or near individual human remains at the time of death or later as part of the death rite or ceremony.

• There is a reasonable connection between the cultural items described in this notice and the Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 15, 2026. If competing requests for repatriation are received, the Tonto National Forest must determine the most appropriate requestor prior to repatriation. Requests for joint repatriation of the human remains and associated funerary objects are considered a single request and not competing requests. The Tonto National Forest is responsible for sending a copy of this notice to the Indian Tribes and Native Hawaiian organizations identified in this notice.

Authority: Native American Graves Protection and Repatriation Act, 25 U.S.C. 3003, and the implementing regulations, 43 CFR 10.10.

Dated: November 19, 2025.
Melanie O'Brien,
Manager, National NAGPRA Program.

[FR Doc. 2025-22907 Filed 12-15-25; 8:45 am]

BILLING CODE 4312-52-P